DEPARTMENT OF THE INTERIOR

Fish and Wildlife Service

[FWS-R8-FHC-2015-N137; FXFR1334088TWG0W4-123-FF08EACT00]

Trinity River Adaptive Management Working Group; Public Meeting

AGENCY: Fish and Wildlife Service, Interior.

ACTION: Notice.

SUMMARY: We, the U.S. Fish and Wildlife Service, announce a joint meeting between the Trinity River Adaptive Management Working Group (TAMWG) and Trinity Management Council (TMC). The TAMWG is a Federal advisory committee that affords stakeholders the opportunity to give policy, management, and technical input concerning Trinity River (California) restoration efforts to the TMC. The TMC interprets and recommends policy, coordinates and reviews management actions, and provides organizational budget oversight.

DATES: Public meeting: TAMWG and TMC will meet from 9:30 a.m. to 3 p.m. Pacific time on Thursday, August 13, 2015. Deadlines: For deadlines on submitting written material, please see “Public Input” under SUPPLEMENTARY INFORMATION.

ADDRESSES: The meeting will be held at the North Fork Grange Hall, Dutch Creek Road, Junction City, CA 96048.

FOR FURTHER INFORMATION CONTACT: Elizabeth W. Hadley, Redding Electric Utility, 777 Cypress Avenue, Redding, CA 96001; telephone: 530-339-7327; email: ehadley@reupower.com or Joseph C. Polos, U.S. Fish and Wildlife Service, 1655 Heindon Road, Arcata, CA 95521; telephone: 707-825-5149; email: joe_polos@fws.gov. Individuals with a disability may request an accommodation by sending an email to the point of contact.

SUPPLEMENTARY INFORMATION: In accordance with the requirements of the Federal Advisory Committee Act, 5 U.S.C. App., we announce that the TAMWG and the TMC will hold a joint meeting.

Background

The TAMWG affords stakeholders the opportunity to give policy, management, and technical input concerning Trinity River (California) restoration efforts to the TMC. The TMC interprets and recommends policy, coordinates and reviews management actions, and provides organizational budget oversight.

Meeting Agenda

• Tour of lower Douglas City restoration site.

• Recap from 2014 TAMWG/TMC meeting.

• Have we implemented the 5 principals effectively?

• Has TRRP outreach been effective?

• Next steps for future success.

The final agenda will be posted on the Internet at http://www.fws.gov/arcata.

Public Input
If you wish to | You must contact Elizabeth Hadley (FOR FURTHER INFORMATION CONTACT) no later than
Submit written information or questions for the TAMWG to consider during the teleconference | August 6, 2015.

Interested members of the public may submit relevant information or questions for the TAMWG to consider during the meeting. Written statements must be received by the date above, so that the information may be available to the TAMWG for their consideration prior to this meeting. Written statements must be supplied to Elizabeth Hadley in one of the following formats: One hard copy with original signature, or one electronic copy with a digital signature via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 14 days after the meeting, and will be posted on the TAMWG Web site at http://www.fws.gov/arcata.

Dated: July 15, 2015.
Joseph C. Polos,
Supervisory Fish Biologist, Arcata Fish and Wildlife Office, Arcata, California.

[FR Doc. 2015-17964 Filed 7-23-15; 8:45 am]

BILLING CODE 4310-55-P